DEPARTMENT OF AGRICULTURE

Food and Nutrition Service

Agency Information Collection Activities: Proposed Collection; Comment Request—Negative QC Review Schedule, Status of Sample Selection of Completion

AGENCY: Food and Nutrition Service, USDA.

ACTION: Notice.

SUMMARY: In accordance with the Paperwork Reduction Act of 1995, this notice invites the general public and other public agencies to comment on the proposed information collection for the FNS-245, Negative Case Action Review Schedule and updates the status of the FNS-248, Status of Sample Selection and Completion. The FNS-245 is currently used in the Quality Control process for the Supplemental Nutrition Assistance Program and the FNS-248 will be removed from this collection as it has been eliminated as a FNS form through regulatory change. The proposed collection is a revision of a collection currently approved under OMB No. 0584-0034.

DATES: Written comments must be submitted on or before April 27, 2012.

ADDRESSES: Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; (d) ways to minimize the burden of the collection of information on those who are to respond, including the use of appropriate automated, electronic, mechanical, or other technological collection techniques or other forms of information technology.

Comments may be sent to: Francis B. Heil, Chief, Quality Control Branch, Program Accountability and Administration Division, Food and Nutrition Service, U.S. Department of Agriculture, 3101 Park Center Drive, Room 822, Alexandria, VA 22302. You may also download an electronic version of this notice at http://www.fns.usda.gov/fsp/rules/regulations/default.htm and comment via email at SNAPHQ-Web@fns.usda.gov or use the Federal e-Rulemaking Portal. Go to http://www.regulations.gov and follow the online instructions for submitting comments electronically.

All written comments will be open for public inspection at the office of the Food and Nutrition Service during regular business hours (8:30 a.m. to 5 p.m. Monday through Friday) at 3101 Park Center Drive, Room 822, Alexandria, Virginia 22302.

All responses to this notice will be included in the request for Office of Management and Budget approval. All comments will also become a matter of public record.

FOR FURTHER INFORMATION CONTACT: Requests for additional information or copies of the information collection form and instruction should be directed to Francis B. Heil, (703) 305-2442.

SUPPLEMENTARY INFORMATION: Title: Negative Quality Control Review Schedule.

OMB Number: 0584-0034.

Form Number: FNS-245.

Expiration Date: December 31, 2012.

Type of Request: Revision of currently approved collections.

The FNS-245, Negative Case Action Review Schedule:

Abstract: The FNS-245, Negative Case Action Review Schedule, is designed to collect quality control (QC) data and serve as the data entry form for negative case action QC reviews in the Supplemental Nutrition Assistance Program (SNAP). State agencies complete the FNS-245 for each negative case in their QC sample. The reporting and recordkeeping burden associated with the completion of the FNS-245 has increased from approximately 118,569 hours to 177,351 hours. Regulatory changes have decreased the report time per response of this form by 0.083 hours; however the 58,782 hour increase in the total burden is largely a result of the increase in total SNAP case selection from 38,911 cases in FY2007 to 59,831 cases in FY 2010.

Affected Public: State, Local & Tribal Governments.

Number of Respondents: 53 State Agencies.

Number of Responses per Respondent: 1,128.87 Records.

Total Annual Responses: 59,831.

Reporting time per Response: 2.9406 Hours.

Estimated Annual Reporting Burden: 174,939.

Number of Record Keepers: 53.

Number of Records per Record Keeper: 1128.87 Records.

Estimated Number of Records/Response to Keep: 59,831 Records.

Recordkeeping Time per Response: .0236 Hours.

Total Estimated Recordkeeping: 1,412 Hours.

Annual Recordkeeping and Reporting Burden: 177,347 Hours.

Reporting Burden
Affected public | Instrument | Estimated number of respondents | Response annually per respondent | Total annual responses | Hours per response | Annual burden hours
State agencies | FNS-245, Negative Case Action Review Schedule | 53.00 | 1,128.87 | 59,830.11 | 2.9406 | 175,936.42
Reporting Totals |  | 53.00 |  | 59,830.11 |  | 175,936.42
Recordkeeping Burden
State agencies | Maintain Records | 53.00 | 1,128.87 | 59,830.11 | 0.024 | 1,411.99
Total Recordkeeping and Reporting Burden |  | 53.00 |  | 119,713.22 |  | 177,348.41

The FNS-248, Status of Sample Selection and Completion:

The FNS-248, Status of Sample Selection and Completion, tracked a state's progress in sample selection and case completion on a monthly basis. A Final rule entitled “Food Stamp Program: Discretionary Quality Control Provisions of Title IV of Public Law 107-171,” was published in the Federal Register on June 11, 2010 (75 FR 33422) and eliminated the use of this form. Therefore, the annual reporting and recordkeeping burden associated with the form is no longer necessary and will be eliminated from this collection.

Dated: February 16, 2012.
Audrey Rowe,
Administrator, Food and Nutrition Service.

[FR Doc. 2012-4459 Filed 2-24-12; 8:45 am]

BILLING CODE 3410-30-P